DEPARTMENT OF COMMERCE

National Oceanic and Atmospheric Administration

[RTID 0648-XA597]

North Pacific Fishery Management Council; Public Meeting

AGENCY: National Marine Fisheries Service (NMFS), National Oceanic and Atmospheric Administration (NOAA), Commerce.

ACTION: Notice of a public meeting.

SUMMARY: The North Pacific Fishery Management Council (NPFMC) Ecosystem Committee will meet via webconference on November 12, 2020.

DATES: The meeting will be held on Thursday, November 12, 2020, from 9 a.m. to 4 p.m., Alaska time.

ADDRESSES: The meeting will be a webconference. Join online through the link at http://meetings.npfmc.org/Meeting/Details/1744.

Council address: North Pacific Fishery Management Council, 1007 W 3rd Ave, Anchorage, AK 99501-2252; telephone: (907) 271-2809. Instructions for attending the meeting are given under Supplementary Information, below.

FOR FURTHER INFORMATION CONTACT: Steve MacLean, Council staff; phone: (907) 271-2809 and email: steve.maclean@noaa.gov. For technical support, please contact administrative Council staff, email: npfmc.admin@noaa.gov.

SUPPLEMENTARY INFORMATION:

Agenda

Thursday, November 12, 2020

The agenda will include: (a) An update on the Local Knowledge, Traditional Knowledge, and Subsistence (LKTKS) Task Force; (b) an update on an EFH consultation for Norton Sound mining operations; (c) a summary of the Deep-Sea Coral three year research program for Alaska; (d) discussion of the committee tasks for the upcoming year; and (e) other business. The agenda is subject to change, and the latest version will be posted at http://meetings.npfmc.org/Meeting/Details/1744 prior to the meeting, along with meeting materials.

Connection Information

You can attend the meeting online using a computer, tablet, or smart phone; or by phone only. Connection information will be posted online at: http://meetings.npfmc.org/Meeting/Details/1744.

Public Comment

Public comment letters will be accepted and should be submitted electronically to http://meetings.npfmc.org/Meeting/Details/1744.

Authority: 16 U.S.C 1801 et seq.

Dated: October 22, 2020.
Tracey L. Thompson,
Acting Deputy Director, Office of Sustainable Fisheries, National Marine Fisheries Service.

[FR Doc. 2020-23733 Filed 10-26-20; 8:45 am]

BILLING CODE 3510-22-P